DEPARTMENT OF EDUCATION

Regional Advisory Committees: Open Meetings

AGENCY: Office of Elementary and Secondary Education, Education.

ACTION: Notice of public meetings of regional advisory committees.

SUMMARY: This notice sets forth the schedule and agenda of the forthcoming public meetings of the Regional Advisory Committees (RACs). This notice contains a correction and supplement to the December 20, 2004 (Monday) notice [Vol. 69, No. 243] concerning meetings of the RACs originally scheduled for March 2005. The previous notice indicated that Meeting 3 of each of the ten RACs would be conducted online on several selected dates in march for the purposes of deliberating and finalizing the education needs assessment reports for their regions. The referenced online meetings have been canceled. Instead, the RACs will meet in person in Houston, TX on March 10 and 11, 2005 to deliberate and finalize their education needs assessment reports. The general public is welcome to attend.

Individuals who want to attend the meetings must send their name and contact information to the RAC Support Office at The CNA Corporation, 4825 Mark Center Drive, Alexandria, VA 22311, or at http://www.rac@cna.org, by no later than Monday, March 7, 2005. Space is limited and, therefore, individuals planning to attend are advised to pre-register. Registration will be accepted on a first-come, first-served basis up to the limits of the space available.

For additional information relating to the role and responsibilities of the RACs, and activities carried out by each of the ten RACs, see the RAC Web site: http://www.rac-ed.org/.

Notice of this meeting is required under section 10(a)(2) of the Federal Advisory Committee Act accommodation. The meeting site is accessible to individuals with disabilities.

The purposes of the open meetings are to:

(1) Provide members of the (10) Regional Advisory Committees an extended amount of time together to review and discuss the reports that they will submit to the Secretary of Education on March 28, 2005.

(2) Provide an opportunity for the public to observe and listen to RAC discussions on the top challenges in each region for improving student achievement.

(3) Provide an opportunity for the public to observe and listen to RAC discussions on the top challenges to implementing the requirements of the No Child Left Behind Act in each region.

(4) Provide an opportunity for the public to observe and listen to RAC discussions on recommendations for the types of technical assistance that would help states, districts and schools successfully address the critical educational challenges identified by each of the RACs.

(5) Provide an opportunity for the public to observe and listen to discussions and recommendations from each of the ten RACs on the priorities for federally funded technical assistance in their region.

DATES: March 10, 2005, from 8:30 a.m. to 4 p.m. and March 11, 2005 from 8:30 a.m. to 2 p.m. Note: The Region 2 (Southwest), Regional Advisory Committee will meet only on Thursday, March 10, 2005 from 2 p.m. to 4 p.m.

ADDRESSES: George R. Brown Convention Center, 1001 Avenida de la Americas, Houston, TX 77010. Tel: 800-427-4697.

Minutes of the meetings will be available to the public online (http://www.rac-ed.org) within fourteen days of the meetings and for public inspection at the office of Georgette Joyner, The CNA Corporation, 4825 Mark Center Drive, Alexandria, VA 22311 between the hours of 9 a.m. to 5 p.m.

SUPPLEMENTARY INFORMATION: The Regional Advisory Committees are established under section 206 of the Educational Technical Assistance Act of 2002, (20 U.S.C. 9605). The RACs are to advise the Secretary by (1) conducting an educational needs assessment of each region described in section 174(b) of the Education Sciences Reform Act of 2002; and (2) submitting reports for each region based on the regional assessments no later than 4 months after the committees are first convened.

Individuals who will need accommodations for a disability in order to attend the meeting (i.e., interpreting services, assistive listening devices, materials in alternative format) should notify the RAC Support Office at The CNA Corporation by no later than Tuesday, March 1, 2005. We will attempt to meet requests after this date, but cannot guarantee availability of the requested accommodation.

FOR FURTHER INFORMATION CONTACT: Enid Simmons, (202) 708-9499 or at enid.simmons@ed.gov.

Dated: February 15, 2005.
Raymond Simon,
Assistant Secretary, Office of Elementary and Secondary Education, U.S. Department of Education.

[FR Doc. 05-3439 Filed 2-18-05; 8:45 am]

BILLING CODE 4000-01-M